DEPARTMENT OF THE TREASURY

Internal Revenue Service

26 CFR Part 300

[REG-139343-08]

RIN 1545-BI71

User Fees Relating to Enrollment and Preparer Tax Identification Numbers; Correction

AGENCY: Internal Revenue Service (IRS), Treasury.

ACTION: Correction to notice of proposed rulemaking and notice of a public hearing.

SUMMARY: This document contains a correction to a notice of proposed rulemaking and notice of a public hearing (REG-139343-08) that was published in the Federal Register on Friday, July 23, 2010 (75 FR 43110). The proposed regulations contain proposed amendments to regulations relating to the imposition of certain user fees on certain tax practitioners. The proposed regulations establish a new user fee for individuals who apply for or renew a preparer tax identification number.

FOR FURTHER INFORMATION CONTACT: Emily M. Lesniak, (202) 622-4940 (not a toll-free number).

SUPPLEMENTARY INFORMATION:

Background

The notice of proposed rulemaking and notice of a public hearing that is the subject of this document is under section 6109 of the Internal Revenue Code.

Need for Correction

As published, the notice of proposed rulemaking and notice of a public hearing (REG-139343-08) contains an error that is misleading and is in need of clarification.

Correction to Publication

Accordingly, the notice of proposed rulemaking and notice of a public hearing which was the subject of FR Doc. 2010-18198 is corrected as follows:

On page 43110, column 1, in the heading, line 5, the language “RIN 1545-B171” is corrected to read “RIN 1545-BI71”.

LaNita VanDyke,
Branch Chief, Publications and Regulations Branch, Legal Processing Division, Associate Chief Counsel (Procedure and Administration).

[FR Doc. 2010-19881 Filed 8-11-10; 8:45 am]

BILLING CODE 4830-01-P